CONSUMER PRODUCT SAFETY COMMISSION

[Docket No. CPSC-2012-0030]

Proposed Extension of Approval of Information Collection; Comment Request—Testing and Recordkeeping Requirements for Carpets and Rugs

AGENCY: Consumer Product Safety Commission.

ACTION: Notice.

SUMMARY: Pursuant to the Paperwork Reduction Act of 1995, the Consumer Product Safety Commission (CPSC) requests comments on a proposed extension of approval of information collection requirements for manufacturers and importers of carpets and rugs under the Standard for the Surface Flammability of Carpets and Rugs and the Standard for the Surface Flammability of Small Carpets and Rugs. The CPSC will consider all comments received in response to this notice before requesting an extension of this collection of information from the Office of Management and Budget (OMB).

DATES: Submit written or electronic comments on the collection of information by October 16, 2018.

ADDRESSES: You may submit comments, identified by Docket No. CPSC-2012-0030, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written submissions by mail/hand delivery/courier to: Office of the Secretary, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2012-0030, into the “Search” box, and follow the prompts.

FOR FURTHER INFORMATION CONTACT: Bretford Griffin, Consumer Product Safety Commission, 4330 East-West Highway, Bethesda, MD 20814; (301) 504-7037, or by email to: bgriffin@cpsc.gov.

SUPPLEMENTARY INFORMATION: CPSC seeks to renew the following currently approved collection of information:

Title: Safety Standard for the Flammability of Carpets and Rugs and Standard for the Flammability of Small Carpets and Rugs.

OMB Number: 3041-0017.

Type of Review: Renewal of collection.

Frequency of Response: On occasion.

Affected Public: Manufacturers and importers of carpets and rugs.

Estimated Number of Respondents: Out of 215 domestic manufacturers, approximately half, or 108 manufacturers, elect to issue a guaranty of compliance with the FFA. Additionally, of the approximately 6,000 firms that import carpets and rugs, approximately 1,500 elect to issue guaranties of compliance. Staff estimates that the average firm issuing a continuing guarantee under the FFA is required to conduct, at most, 200 tests per year, although the actual number of tests required by a given firm may vary from one to 200, depending upon the number of carpet styles and the annual production volume. To estimate burden, we selected the midpoint, 100 tests per year.

Estimated Time per Response: 2.5 hours to conduct each test, and to establish and maintain test records.

Total Estimated Annual Burden: The time required to conduct each test is estimated to be 2.5 hours, including the time required to establish and maintain the test records. We estimate the total annualized cost/burden to respondents could be as many as 160,800 tests per year (1,608 firms × 100 tests), at 2.5 hours per test, or 402,000 hours.

Total Estimated Annual Cost to Respondents: The total annualized costs to all respondents for the hour burden for collection of information is estimated to be as high as $27,830,460, using a mean hourly employer cost-per-hour-worked of $69.23 (Bureau of Labor Statistics: Total compensation rates for management, professional, and related occupations in private goods-producing industries, March 2018) (402,000 hours × $69.23).

General Description of Collection: The Standard for the Surface Flammability of Carpets and Rugs (16 CFR part 1630) and the Standard for the Surface Flammability of Small Carpets and Rugs (16 CFR part 1631) establish requirements to reduce the flammability of carpets and rugs. The standards' provisions include requirements for testing and recordkeeping for manufacturers and importers who furnish guaranties subject to the carpet and rug flammability standards. Separate from the guaranties, the Consumer Product Safety Improvement Act of 2008 (CPSIA) established product certification requirements for applicable consumer product safety standards and rules. 15 U.S.C. 2063(g).

Request for Comments

The CPSC solicits written comments from all interested persons about the proposed collection of information. The CPSC specifically solicits information relevant to the following topics:

—Whether the collection of information described is necessary for the proper performance of the CPSC's functions, including whether the information would have practical utility;

—Whether the estimated burden of the proposed collection of information is accurate;

—Whether the quality, utility, and clarity of the information to be collected could be enhanced; and

—Whether the burden imposed by the collection of information could be minimized by use of automated, electronic, or other technological collection techniques, or other forms of information technology.

Alberta E. Mills,
Secretary, Consumer Product Safety Commission.

[FR Doc. 2018-17720 Filed 8-16-18; 8:45 am]

BILLING CODE 6355-01-P